NATIONAL CREDIT UNION ADMINISTRATION

Sunshine Act; Notice of Agency Meeting

TIME AND DATE: 10:00 a.m., Thursday, October 18, 2012.

PLACE: Board Room, 7th Floor, Room 7047. 1775 Duke Street (All visitors must use Diagonal Road Entrance), Alexandria, VA 22314-3428.

STATUS: Open.

MATTERS TO BE CONSIDERED: 1. NCUA's Rules and Regulations, Low-Income Designation, Acceptance Deadline.

2. Request from BMI Federal Credit Union to Convert to a Community Charter.

3. Quarterly Insurance Fund Report.

RECESS: 11:00 a.m.

TIME AND DATE: 11:15 a.m., Thursday, October 18, 2012.

PLACE: Board Room, 7th Floor, Room 7047, 1775 Duke Street, Alexandria, VA 22314-3428.

STATUS: Closed.

MATTERS TO BE CONSIDERED: 1. Charter and Purchase and Assumption Request Pursuant to Section 205(b)(1)(A) of the Federal Credit Union Act. Closed pursuant to exemptions: (4), (8), and (9)(i)(B).

2. Consideration of Supervisory Activities (3). Closed pursuant to some or all of the following exemptions: (8), (9)(i)(B) and 9(ii).

3. Personnel. Closed pursuant to Exemption (2).

FOR FURTHER INFORMATION CONTACT: Mary Rupp, Secretary of the Board, Telephone: 703-518-6304

Mary Rupp,
Board Secretary.

[FR Doc. 2012-25417 Filed 10-11-12; 4:15 pm]

BILLING CODE 7535-01-P